SOCIAL SECURITY ADMINISTRATION

The Ticket to Work and Work Incentives Advisory Panel Meeting

AGENCY: Social Security Administration (SSA).

ACTION: Notice of teleconferences and meeting.

DATES: Teleconferences:

December 12, 2000, 1:30-3:30 p.m.

December 19, 2000, 1:30-3:30 p.m.

Meeting:

January 9, 2001, 8:30 a.m.-5 p.m.

January 10, 2001, 8:30 a.m.-5 p.m.

ADDRESSES: Teleconferences: Social Security Administration, International Trade Center, 500 E St. SW., 8th Floor, Theatre Room, Washington, D.C. 20254.

Meeting: Holiday Inn-Capitol, 550 C Street, SW., Washington, DC, 20024, (202) 479-4000, (202) 479-4353 Fax. The hotel is located one block from the L'Enfant Metro Station.

SUPPLEMENTARY INFORMATION: Type of meetings: These meetings are open to the public. The public is invited to participate by calling into the teleconferences or coming to the addresses listed above for the teleconferences and the meeting. The public is also invited to submit comments in writing at any time on or before January 10, 2001.

Purpose: In accordance with section 10(a)(2) of the Federal Advisory Committee Act, the Social Security Administration (SSA) announces meetings of the Ticket to Work and Work Incentives Improvement Act (TWWIIA) Advisory Panel (the Panel). Section 101(f) of Public Law 106-170 establishes the Panel to advise the Commissioner of SSA, the President, and the Congress on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

Interested parties are invited to attend the teleconferences and meeting. The Panel will use the teleconferences to conduct full Panel deliberations on the implementation of the TWWIIA. The Panel will not be taking public testimony at the teleconferences. The Panel will use the meeting time to receive public testimony, hear presentations on the implementation of TWWIIA, conduct full Panel deliberation, receive briefings and conduct business.

Teleconference Agenda: The Panel will meet by teleconference commencing Tuesday, December 12, 2000 at 1:30 p.m. to 3:30 p.m. The Panel will deliberate on the implementation of TWWIIA. The public is invited to participate by coming in to the address listed above or calling in to the scheduled teleconference to listen. No public testimony will be taken.

Teleconference Agenda: The Panel will meet by teleconference commencing Tuesday, December 19, 2000 at 1:30 p.m. to 3:30 p.m. The Panel will deliberate on the implementation of TWWIIA. The public is invited to participate by coming in to the address listed above or calling in to the scheduled teleconference to listen. No public testimony will be taken.

Meeting Agenda: The Panel will meet in person commencing Tuesday, January 9, 2001 at 8:30 a.m. to 5:00 p.m. and Wednesday, January 10, 2001 at 8:30 a.m. to 5:00 p.m. Seating may be limited so persons interested in attending this meeting should contact the Panel staff by e-mail or telephone. Public testimony will be heard in person on Tuesday, January 9, 2001 and Wednesday, January 10, 2001 from 8:30 a.m. to 9:30 a.m. Individuals interested in providing testimony in person should contact the Panel staff as outlined below to schedule time slots. Members of the public must schedule a timeslot in order to comment.

Each presenter will be called on by the Chair in the order in which they are scheduled to testify and is limited to a maximum five-minute verbal presentation. Full written testimony on TWWIIA Implementation, no longer than 5 pages, may be submitted in person or by mail, fax or email on an on-going basis to the Panel for consideration.

In the event that the public comments do not take up the scheduled time period for each day, the Panel will use that time to deliberate and conduct other Panel business.

Since teleconference ports and seating may be limited, persons interested in attending these meetings or in providing testimony at the in-person meeting should contact the Panel staff by E-mailing Kristen M. Breland, at ‘kristen.m.breland@ssa.gov’ or calling (410) 966-7225.

The full agendas for the meetings follow this announcement. The agendas are also posted on the Internet at http:// www.ssa.gov/work/Resources/Toolkit/ or can be received in advance electronically or by fax upon request.

Contact Information: Anyone requiring information regarding the Panel should contact the TWWIIA Panel staff. Records are being kept of all Panel proceedings and will be available for public inspection by appointment at the Panel office. Anyone requiring information regarding the Panel should contact the Panel staff by:

• Mail addressed to Social Security Administration, Ticket to Work and Work Incentives Advisory Panel Staff, 107 Altmeyer Building, 6401 Security Boulevard, Baltimore MD, 21235

• Telephone contact with Kristen Breland at (410) 966-7225

• Fax at (410) 965-9063

• E-mail to TWWIIAPanel@ssa.gov

Dated: November 30, 2000.
Deborah M. Morrison,
Designated Federal Officer.

Ticket to Work and Work Incentives Advisory Panel, Teleconference Meeting Agenda

Tuesday, December 12, 2000

Social Security Administration, 8th Floor Theatre Room, 500 E Street, SW, Washington, DC 20254

1:30 p.m.

Meeting Convened by Designated Federal Officer, Deborah M. Morrison, Sarah Wiggins Mitchell, Chair, Presiding

1:30-3:15 p.m.

Deliberations on the Implementation of the Ticket to Work and Work Incentives Improvement Act

3:15-3:30 p.m.

Administrative Issues

3:30 p.m.

Adjournment

Tuesday, December 19, 2000

Social Security Administration, 8th Floor Theatre Room, 500 E Street, SW, Washington, DC 20254

1:30 p.m.

Meeting Convened by Deborah M. Morrison, Designated Federal Officer, Sarah Wiggins Mitchell, Chair, Presiding

1:30-3:15 p.m.

Deliberations on the Implementation of the Ticket to Work and Work Incentives Improvement Act

3:15-3:30 p.m.

Administrative Issues

3:30 p.m.

Adjournment

Ticket to Work and Work Incentives Advisory Panel, Public Meeting Agenda

January 9 and 10, 2001

Holiday Inn-Capitol, 550 C Street, SW, Washington, DC, 20024, (202) 479-4000, (202) 479-4353 Fax. The hotel is located one block from the L'Enfant Metro Station.

Day 1—Tuesday, January 9, 2001

8:30 a.m.

Meeting Called to Order by Deborah M. Morrison, Designated Federal Officer, Welcome and Introductions—Sarah Mitchell, Chair, Presiding

8:30 to 9:30 a.m.

Public Testimony Comment Period on TWWIIA Implementation

9:30 to 10:30 a.m.

Update on TWWIIA Implementation by Office of Employment Support Programs

10:30 to 10:45 a.m.

Break

10:45 to 11:45 a.m.

Panel Deliberations on TWWIIA Implementation

11:45 a.m. to 1:15 p.m.

Lunch (On Your Own)

1:15 p.m.

Meeting Reconvenes, Sarah Mitchell, Chair, Presiding

1:15 to 3:00 p.m.

Panel Deliberations on TWWIIA Implementation

3:00 to 3:30 p.m.

Break

3:00 to 5:00 p.m.

Panel Deliberations on TWWIIA Implementation

5:00 p.m.

Adjournment

Please note: If time allotted for public comment exceeds the time required, the Panel will use the time to deliberate on TWWIIA implementation.

Day 2—Wednesday, January 10, 2001

8:30 to 9:30 a.m.

Public Testimony Comment Period on TWWIIA Implementation

9:30 to 11:45 a.m.

Briefings on TWWIIA Implementation

11:45 a.m. to 1:15 p.m.

Lunch (On Your Own)

1:15 p.m.

Meeting Reconvenes Sarah Mitchell, Chair, Presiding

1:15 to 3:30 p.m.

Panel Deliberations on TWWIIA Implementation

3:30 to 3:45 p.m.

Break

3:45 to 5:00 p.m.

Business Meeting

5:00 p.m.

Adjournment by Deborah M. Morrison, Designated Federal Officer

Please note: If time allotted for public comment exceeds the time required, the Panel will use the time to deliberate on TWWIIA implementation.

[FR Doc. 00-31015 Filed 12-4-00; 8:45 am]

BILLING CODE 4191-02-U